ENVIRONMENTAL PROTECTION AGENCY

[EPA-HQ-OAR-2007-1196; FRL-9974-41-OAR]

Recent Postings of Broadly Applicable Alternative Test Methods

AGENCY: Environmental Protection Agency (EPA).

ACTION: Notice of availability.

SUMMARY: This notice announces the broadly applicable alternative test method approval decisions that the Environmental Protection Agency (EPA) has made under and in support of New Source Performance Standards (NSPS) and the National Emission Standards for Hazardous Air Pollutants (NESHAP) between January 1, 2017, and December 31, 2017.

FOR FURTHER INFORMATION CONTACT: An electronic copy of each alternative test method approval document is available at https://www.epa.gov/emc/broadly-applicable-approved-alternative-test-methods. For questions about this notice, contact Mrs. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval document(s).

SUPPLEMENTARY INFORMATION:

I. General Information

A. Does this notice apply to me?

This notice will be of interest to entities regulated under 40 Code of Federal Regulations (CFR) parts 60, 61, and 63; state, local, and tribal agencies; and the EPA Regional offices responsible for implementation and enforcement of regulations under 40 CFR parts 60, 61, and 63.

B. How can I get copies of this information?

You may access copies of the broadly applicable alternative test method approval documents at https://www.epa.gov/emc/broadly-applicable-approved-alternative-test-methods.

II. Background

This notice identifies broadly applicable alternative test method approval decisions made by the EPA in 2017 under the NSPS, 40 CFR part 60 and the NESHAP programs, and 40 CFR parts 61 and 63 (see Table 1). Source owners and operators may voluntarily use these broadly applicable alternative test methods in lieu of otherwise specified reference test methods. Use of these broadly applicable alternative test methods does not change the applicable emission standards.

The Administrator has the authority to approve the use of alternative test methods for compliance with requirements under 40 CFR parts 60, 61, and 63. This authority is found in sections 60.8(b)(3), 61.13(h)(1)(ii), and 63.7(e)(2)(ii). Additional and similar authority can be found in 40 CFR 65.158(a)(2). The criteria for approval and procedures for submission and review of broadly applicable alternative test methods are explained in a previous Federal Register notice published at 72 FR 4257 (January 30, 2007) and located at https://www.epa.gov/emc/broadly-applicable-approved-alternative-test-methods. As explained in this notice, we will announce approvals for broadly applicable alternative test methods at https://www.epa.gov/emc/broadly-applicable-approved-alternative-test-methods and publish an annual notice that summarizes approvals for broadly applicable alternative test methods during the preceding year.

As also explained in the January 30, 2007, notice, our approval decisions involve thorough technical reviews of numerous source-specific requests for alternatives and modifications to test methods and procedures. Based on these reviews, we have often found that these modifications or alternatives would be equally valid and appropriate to apply to other sources within a particular class, category, or subcategory. Consequently, we have concluded that where a method modification or an alternative method is clearly broadly applicable to a class, category, or subcategory of sources, it is both equitable and efficient to approve its use for all appropriate sources and situations at the same time.

Use of approved alternative test methods are not mandatory but rather permissive. Sources are not required to employ such a method but may choose to do so in appropriate circumstances. As per section 63.7(f)(5), however, a source owner or operator electing to use an alternative method for 40 CFR part 63 standards must continue to use the alternative method until otherwise authorized. Source owners or operators should, therefore, review the specific broadly applicable alternative method approval decision at https://www.epa.gov/emc/broadly-applicable-approved-alternative-test-methods before electing to employ any alternative method.

III. Approved Alternative Test Methods and Modifications to Test Methods

This notice specifies three broadly applicable alternative test methods that the EPA approved between January 1, 2017, and December 1, 2017. The alternative method decision letter/memo number, the reference method affected, sources allowed to use this alternative, and the modification or alternative method allowed are summarized in Table 1 of this notice. A summary of approval documents was previously made available on our Technology Transfer Network between January 1, 2017, and December 31, 2017. For more detailed information, please refer to the complete copies of these approval documents available at https://www.epa.gov/emc/broadly-applicable-approved-alternative-test-methods.

As also explained in our January 30, 2007, notice, we will revisit approvals of alternative test methods in response to written requests or objections indicating that a particular approved alternative test method either should not be broadly applicable or that its use should in some way be limited. Any objection to a broadly applicable alternative test method, as well as the resolution of that objection, will be announced at https://www.epa.gov/emc/broadly-applicable-approved-alternative-test-methods and in a subsequent Federal Register notice. If we decide to retract a broadly applicable test method, we will likely consider the need for an appropriate transition period for users either to request case-by-case approval or to transition to an approved method.

Dated: February 13, 2018.
Panagiotis E. Tsirigotis,
Director, Office of Air Quality Planning and Standards.

Table 1—Approved Alternative Test Methods and Modifications to Test Methods Referenced in or Published Under Appendices in 40 CFR Parts 60, 61, and 63 Posted Between January 2017 and December 2017.
Alternative method decision letter/memo number | As an alternative or modification to . . . | For . . . | You may . . .
ALT-120 | 40 CFR 63.1350(k)(2)(ii) and (iii) | Sources subject to 40 CFR part 63, subpart LLL-National Emission Standards for Hazardous Air Pollutants from the Portland Cement Manufacturing Industry | Use the alternative procedure for above span mercury calibrations through January 1, 2019, only as specified in the Agency's approval letter dated December 7, 2017.
ALT-121 | Method 3-Gas Analysis for the Determination of Dry Molecular Weight | Sources subject to 40 CFR part 60, subpart Ja-Standards of Performance for Petroleum Refineries for Which Construction, Reconstruction, or Modification Commenced After May 14, 2007 | Use Method 3A-Determination of Oxygen and Carbon Dioxide Concentrations in Emissions From Stationary Sources (Instrumental Analyzer Procedures).
ALT-122 | Method 325 A-Volatile Organic Compounds From Fugitive and Area Sources: Sampler Deployment and VOC Sample Collection and Method 325B-Volatile Organic Compounds From Fugitive and Area Sources: Sampler Preparation and Analysis | Sources subject to 40 CFR part 63, subpart CC-National Emission Standards for Hazardous Air Pollutants From Petroleum Refineries | Use the alternative approaches for temperature and pressure corrections, sample collection timing, and duplicate and field blank samples as specified in the Agency's approval letter dated September 11, 2017.
Source owners or operators should review the specific broadly applicable alternative method approval letter at https://www.epa.gov/emc/broadly-applicable-approved-alternative-test-methods before electing to employ it.

[FR Doc. 2018-04375 Filed 3-2-18; 8:45 am]

BILLING CODE 6560-50-P